DEPARTMENT OF JUSTICE

[OMB Number 1121-0064]

Agency Information Collection Activities; Proposed eCollection eComments Requested; Annual Surveys of Probation and Parole

AGENCY: Bureau of Justice Statistics, Department of Justice.

ACTION: 30-Day notice.

SUMMARY: The Bureau of Justice Statistics, Department of Justice (DOJ), will be submitting the following information collection request to the Office of Management and Budget (OMB) for review and approval in accordance with the Paperwork Reduction Act of 1995. The proposed information collection was previously published in the Federal Register on May 1, 2023, allowing a 60-day comment period.

DATES: Comments are encouraged and will be accepted for 30 days until August 25, 2023.

FOR FURTHER INFORMATION CONTACT: If you have comments especially on the estimated public burden or associated response time, suggestions, or need a copy of the proposed information collection instrument with instructions or additional information, please contact: Danielle Kaeble, Bureau of Justice Statistics, 810 Seventh St. NW, Washington, DC 20531 (email: Danielle.Kaeble@usdoj.gov; telephone: 202-598-1024).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number 1121-0064. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a currently approved collection.

2. Title of the Form/Collection: Annual Surveys of Probation and Parole

3. Agency form number, if any, and the applicable component of the Department of Justice sponsoring the collection: The Annual Surveys of Probation and Parole (ASPP) contain three forms: CJ-7: Annual Parole Survey CJ-8: Annual Probation Survey and CJ-8M: Annual Probation Survey (Misdemeanor Supervision Only). The applicable component within the Department of Justice is the Bureau of Justice Statistics (BJS), in the Office of Justice Programs. The ASPP is fielded annually. BJS requests clearance for the 2023, 2024, and 2025 ASPP under OMB Control No. 1121-0064. The ASPP was last approved under OMB Control No. 1121-0064 (exp. date 09/30/2023).

4. Affected public who will be asked or required to respond, as well as a brief abstract: Affected Public: State departments of corrections or state probation and parole authorities, the Federal Bureau of Prisons, city and county courts and probation offices for which a central reporting authority does not exist.

Abstract: For the CJ-7 form, the affected public consists of 54 respondents including 50 central reporters, the District of Columbia, and the Federal Bureau of Prisons responsible for keeping records of adult on parole supervision. For the CJ-8 form, the affected public includes 250 reporters including central state respondents, the District of Columbia, the Federal Bureau of Prisons, and local authorities responsible for keeping records on individuals on probation supervision. For the CJ-8M form, the affected public includes 610 reporters who are all local authorities responsible for keeping records on individuals on probation supervision for a misdemeanor offense. These reporters indicated they do not supervise any individual on probation for a felony offense and will answer a short survey on population totals. The Annual Parole Survey and Annual Probation surveys have been used since 1977 to collect annual yearend counts and yearly movements of community corrections populations; characteristics of the community supervision population, such as gender, racial composition, ethnicity, conviction status, offense, and supervision status.

5. Obligation to Respond: Voluntary.

6. Total Estimated Number of Respondents: 912.

7. Estimated Time per Respondent: averaged 72 minutes.

8. Frequency: Once a year.

9. Total Estimated Annual Time Burden: 1,090 hours; please note that burden hours differ from information previously published in the 60 day notice due to more detailed estimates of time by survey type.

10. Total Estimated Annual Other Costs Burden: $31,300.

Table 1—Estimated Annualized Respondent Cost and Hour Burden
Activity | Number of respondents | Freq | Total annual responses | Time to gather data | Time per survey (mins) | Time for follow-up (mins ) | Total time (mins) | Total annual burden (hrs)
CJ-7 | 54 | 1 | 54 | 0 | 95 | 15 | 5,940 | 99 hours (5,994 min/60 mins).
CJ-8 | 250 | 1 | 250 | 30 | 120 | 15 | 41,250 | 687 hours (41,250 min/60 mins).
CJ-8M | 608 | 1 | 608 | 15 | 10 | 5 | 18,240 | 304 hours (18,240 min/60 mins).
Totals | 912 |  |  |  |  |  |  | 1,090.

If additional information is required, contact: Darwin Arceo, Department Clearance Officer, Policy and Planning Staff, Justice Management Division, United States Department of Justice, Two Constitution Square, 145 N Street NE, 4W-218 Washington, DC 20530.

Dated: July 20, 2023.
Darwin Arceo,
Department Clearance Officer for PRA, U.S. Department of Justice.

[FR Doc. 2023-15785 Filed 7-25-23; 8:45 am]

BILLING CODE 4410-18-P